DEPARTMENT OF AGRICULTURE

Forest Service

Bitterroot National Forest, Ravalli County, MT, Travel Management Planning

AGENCY: Forest Service, USDA.

ACTION: Notice of intent to prepare an environment impact statement.

SUMMARY: In accordance with the National Environmental Policy Act, notice is hereby given that the Forest Service, Bitterroot National Forest will prepare a Draft Environmental Impact Statement to disclose the environmental consequences of the proposed travel management planning. The proposed action would provide approximately 2,487 miles of wheeled motorized recreation opportunities on the Bitterroot National Forest while maintaining 1,030,405 acres of non-motorized areas. The proposed action would also provide approximately 341 miles of open snowmobile routes and 608,031 acres open to snowmobile use.

DATES: Specific comments on the proposed action should be received by November 23, 2007. The draft environmental impact statement is expected to be available for the public in August 2008, and the final environmental impact statement is expected to be available in May 2009. The Motor Vehicle Use Map is scheduled to be available on or before December 2009.

ADDRESSES: Submit written, faxed, or e-mail comments by: (1) Mail—Travel Management Planning Team; Stevensville Ranger District; 88 Main; Stevensville, Montana 59870 (2) fax—(406) 777-7423; (3) e-mail—comments- northern-bitterroot@fs.fed.us

FOR FURTHER INFORMATION CONTACT: Dan Ritter, Stevensville District Ranger (406) 777-5461 or Sandy Mack, Project Team Leader (406) 777-7415 (see ADDRESSES above)

SUPPLEMENTARY INFORMATION:

Purpose

The objectives of the project are to: 1. Change the existing motorized recreation designations provide quality motorized recreation experiences while protecting natural resources and providing non-motorized recreation opportunities.

• Provide motorized loop routes that offer a quality recreational experience, with the focus on using old roads and linkages with only minor resource impacts.

• Provide areas for non-motorized recreation experiences.

• Close routes to motorized use that have resource concerns that can't reasonably be mitigated.

2. Close routes that offer little value as a motorized experience and have resource concerns.

3. Clarify and simplify the motor vehicle use designations.

4. Comply with the 2005 Travel Management Rule.

Proposed Action

The proposed action establishes clear, standardized designations of where motorized recreation is appropriate, sustainable and desirable on the Bitterroot National Forest. It would provide 2,487 miles of routes open to wheeled motorized use including: 25 mi. of roads open to all vehicles, yearlong or seasonal (mixed-motorized); 1,479 mi. of roads open to highway legal vehicles only, yearlong or seasonal; 746 mi. of trails open to vehicles 50″ or less in width, yearlong or seasonal; 237 mi. of trails open to motorcycles, yearlong or seasonal. It would also provide 1,030,405 acres of non-motorized use (½ mile or more from wheeled motorized use designations) across the Forest. The proposed action would provide 58 miles of groomed snowmobile trails, 341 miles of open snowmobile routes and 608,031 acres open to snowmobile use.

Alternatives to the proposed action will be developed based on public comments.

Responsible Official

The responsible official for the Travel Management Planning Project is Dave T. Bull, Forest Supervisor, Bitterroot National Forest 1801 N. First, Hamilton 59840-3114.

Nature of Decision To Be Made

The Responsible Official will determine whether or not to proceed with the proposed motorized use designations.

Scoping Process

Comments will be accepted during the 60-day scoping period as described in this notice of intent. To assist in commenting, a coping package providing more detailed information on the project proposal has been prepared and is available to interested parties. Contact Sandy Mack, Project Leader at the address listed in this notice of intent if you would like to receive a copy. The information is also available on the web at www.fs.fed.us/r1/bitterroot/projects/ motorized_rec.shtml, and at each District Office and at the public libraries in Darby, Hamilton, Stevensville and Missoula. the Forest will schedule public meetings in November, prior to the end of the public comment period. Meeting times and locations will be announced at a later date.

Comment Requested

This notice of intent initiates the scoping process that guides the development of the environmental impact statement.

Early Notice of Importance of Public Participation in Subsequent Environmental Review: A draft environmental impact statement will be prepared for comment. The comment period on the draft environmental impact statement will be at least 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 24 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 20, 2007.
Barry Paulson,
Deputy Forest Supervisor.

[FR Doc. 07-4805 Filed 9-28-08; 8:45 am]

BILLING CODE 3410-11-M